OFFICE OF MANAGEMENT AND BUDGET

Request for Nominations of Experts to Peer-Review Draft Guidance on Conducting Analysis of Federal Regulations

AGENCY: Office of Management and Budget.

ACTION: Notice; request for nominations.

SUMMARY: The Office of Management and Budget (OMB) is drafting proposed revisions to its Circular A-4: Regulatory Analysis. This notice requests public nominations of experts to participate in an independent scientific peer review of an updated draft of Circular A-4: Regulatory Analysis.

DATES: The 21-day public comment period to provide nominations begins April 7, 2023, and ends April 28, 2023. Nominations must be received on or before April 28, 2023.

ADDRESSES: Submit your nominations by emailing them to MBX.OMB.OIRA.A4PeerReview@omb.eop.gov (subject line: Peer Review Nomination for Updating Circular A-4) no later than April 28, 2023. To receive full consideration, nominations should include all of the information requested below. Please be advised that public comments, including communications on these nominations, are subject to release under the Freedom of Information Act.

FOR FURTHER INFORMATION CONTACT: Office of Information and Regulatory Affairs, Office of Management and Budget, MBX.OMB.OIRA.A4PeerReview@omb.eop.gov (subject line: Peer Review Nomination for Updating Circular A-4).

SUPPLEMENTARY INFORMATION:

Privacy Act Statement

Submission of nominations is voluntary. Solicitation of this information is authorized by 31 U.S.C. 1111. The information furnished will be used to select independent peer reviewers to evaluate proposed updates to Circular A-4. While the information solicited by this notice is intended to be used for internal purposes, in certain circumstances it may be necessary to disclose this information externally, for example to contractors, as necessary to perform their duties for the Federal government; to a congressional office in response to an inquiry from that congressional office made at the request of the individual to whom the record pertains; or to other agencies, courts, and persons as necessary and relevant in the course of litigation, and as necessary and in accordance with requirements for law enforcement. A complete list of the routine uses can be found in the system of records notice associated with this collection of information, OMB Public Input System of Records, OMB/INPUT/01.

I. Background

Since 2003, OMB Circular A-4: Regulatory Analysis ¹ has provided guidance to Federal agencies on the development of regulatory analysis as required under Section 6(a)(3) of Executive Order (E.O.) 12866 (Regulatory Planning and Review),² the Regulatory Right-to-Know Act,³ and a variety of related authorities. OMB is drafting proposed updates to the Circular, available at https://www.whitehouse.gov/wp-content/uploads/2023/04/DraftCircularA-4.pdf, as well as a preamble that offers further context for prospective public commenters and peer reviewers, https://www.whitehouse.gov/wp-content/uploads/2023/04/DraftCircularA-4Preamble.pdf; public comments on these materials is being solicited via a separate notice and, in addition, the proposed updates will be peer reviewed in accordance with OMB's Final Information Quality Bulletin for Peer Review (the Bulletin) ⁴ and the Regulatory Right-to-Know Act. The independent, external scientific peer review will be managed by an OMB contractor. This notice requests public nominations of experts to participate in the independent scientific peer review of the proposed updates to CircularA-4.

¹ OMB, Circular A-4, Regulatory Analysis (Sept. 17, 2003), available at https://www.whitehouse.gov/wp-content/uploads/legacy_drupal_files/omb/circulars/A4/a-4.pdf.

² Exec. Order No. 12866, 58 FR 51735 (Oct. 4, 1993).

³ Public Law 106-554, section 624, 114 Stat. 2763A-161 (codified at 31 U.S.C. 1105 note).

⁴ OMB, M-05-03, Final Information Quality Bulletin for Peer Review (Dec. 16, 2004), available at https://www.whitehouse.gov/wp-content/uploads/legacy_drupal_files/omb/memoranda/2005/m05-03.pdf.

II. Information About This Peer Review

OMB is seeking nominations of individuals with demonstrated and nationally-recognized expertise in economics and various aspects of the disciplines of public policy and administrative law that relate to the application of benefit-cost analysis to regulatory policy. A balanced review panel should include experts who possess the necessary domains of knowledge and a breadth of economic and scientific perspectives to provide rigorous peer review.⁵ Consistent with the Bulletin, all nominations will be evaluated for real or perceived conflicts of interest and independence.

⁵ See id. at 24 (emphasizing “that the term `balance' here refers not to balancing of stakeholder or political interests but rather to a broad and diverse representation of respected perspectives and intellectual traditions within the scientific community”).

To achieve the necessary breadth, OMB seeks nominees with expertise in the following areas:

Primary fields:

• Applied microeconomics

• Macroeconomics

• Financial economics

• Industrial organization

• Public economics

• Welfare economics

• Risk management and risk assessment, including both policy and scientific expertise

• Regulatory process, including administrative law, as it intersects with regulatory and benefit-cost analysis

Secondary fields and sub-fields of primary fields:

• Behavioral economics

• Qualitative methods for policy impact analysis

• Applied statistics and econometrics

• Environmental and natural resource economics

• Agricultural economics

• Transportation economics

• Labor economics

• International trade

• Economics of health and medicine

To form the list of candidate external reviewers, nominations submitted in response to this notice will be considered along with candidates identified using traditional techniques (e.g., a literature search) to identify additional qualified candidates in the disciplines listed above. After consideration of public nominations, a final multi-disciplinary panel of eight to ten peer reviewers will be selected from the pool. Selection criteria to be used for panel membership include: (a) distinguished and nationally-recognized technical expertise, as well as experience; (b) availability and willingness to serve; and (c) real or perceived conflicts of interest and independence.

Process and Deadline for Submitting Nominations: Any person or organization may nominate individuals qualified in the areas described above. Self-nominations are permitted. Submit your nominations by email to MBX.OMB.OIRA.A4PeerReview@omb.eop.gov (subject line: Peer Review Nomination for Updating Circular A-4). To receive full consideration, nominations should include all of the following information: contact information for the person making the nomination; the nominee's contact information and institutional affiliation; the nominee's disciplinary and specific areas of expertise; and the nominee's résumé or curriculum vitae or equivalent information about their current position, educational background, expertise, and experience. To assess conflicts of interest and independence for nominees being considered for the peer review, OMB will seek to identify, among other factors, professional affiliation with the Executive Office of the President within the last 3 years; current contracts with the Federal government to conduct regulatory impact analysis or other decision support analyses; and regular business streams to advocate for or critique regulatory impact analyses on behalf of non-federal entities.

Richard L. Revesz,
Administrator, Office of Information and Regulatory Affairs.

[FR Doc. 2023-07362 Filed 4-6-23; 4:15 pm]

BILLING CODE 3110-01-P